Executive Order 14352 of September 25, 2025

Saving TikTok While Protecting National Security

By the authority vested in me as President by the Constitution and the laws of the United States of America, it is hereby ordered:

Section 1. Background. The Protecting Americans from Foreign Adversary Controlled Applications Act (the “Act”) (Public Law 118-50, Div. H) regulates “foreign adversary controlled applications,” specifically those operated by TikTok and any other subsidiary of its China-based parent company, ByteDance Ltd., on national security grounds.

Section 2(a) of the Act prohibits entities from distributing, maintaining, or updating certain defined foreign adversary controlled applications within the territory of the United States by providing (1) services for such distribution, maintenance, or updates by means of an online mobile application store or other marketplace; or (2) internet hosting services to enable the distribution, maintenance, or updating of such applications. Section 2(g) of the Act defines “foreign adversary controlled application” to include websites, desktop applications, mobile applications, and augmented or immersive technology applications operated directly or indirectly by ByteDance Ltd., TikTok, or certain subsidiaries. Under section 2(a), the Act's prohibitions with respect to these entities became effective on January 19, 2025. On January 20, 2025, I issued Executive Order 14166 (Application of Protecting Americans from Foreign Adversary Controlled Applications Act to TikTok), delaying the Act's enforcement until April 5, 2025. On April 4, 2025, I issued Executive Order 14258 (Extending the TikTok Enforcement Delay), further delaying the Act's enforcement until June 19, 2025. On June 19, 2025, I issued Executive Order 14310 (Further Extending the TikTok Enforcement Delay), further delaying the Act's enforcement until September 17, 2025. Finally, on September 16, 2025, I issued Executive Order 14350 (Further Extending the TikTok Enforcement Delay), further delaying the Act's enforcement until December 16, 2025.

Section 2(c) of the Act further empowers the President to determine, through an interagency process, that TikTok has undergone a “qualified divestiture,” removing the Act's prohibitions. To achieve a “qualified divestiture,” TikTok must execute a transaction that would result in the application no longer being controlled by a foreign adversary and that would preclude formerly affiliated entities from maintaining an “operational relationship” with the application's United States operations. The Act describes “operational relationship” to include “cooperation with respect to the operation of a content recommendation algorithm” and an “agreement with respect to data sharing.”

A plan has been presented to me to undergo a qualified divestiture of TikTok's United States operations, as outlined in a framework agreement (Framework Agreement). Under this Framework Agreement, TikTok's United States application will be operated by a newly established joint venture based in the United States. It will be majority-owned and controlled by United States persons and will no longer be controlled by any foreign adversary, since ByteDance Ltd. and its affiliates will own less than 20 percent of the entity, with the remainder being held by certain investors (Investor Parties). This new joint venture will be run by a new board of directors and subject to rules that appropriately protect Americans' data and our national security.

Accordingly, I have determined that the proposed divestiture would allow the millions of Americans who enjoy TikTok every day to continue using it while also protecting national security.

Sec. 2. Determination. (a) Under the Act, the President's determination that a divestiture is a “qualified divestiture” must occur through an “interagency process.” As delegated and directed by me, the Vice President has led this interagency process in cooperation and consultation with the National Security Council, the Office of Science and Technology Policy, the Department of the Treasury, the Department of Justice, the Department of Commerce, and the Office of the Director of National Intelligence. This process has included, among other things, significant interagency deliberations and consultations, numerous briefings by informed experts and national security officials, and extensive negotiations with outside parties. This interagency process has reviewed and made recommendations to me with respect to all aspects of the proposed divestiture.

(b) Having completed the interagency process contemplated in the Act, I have determined the following:

(i) The TikTok application is a social media platform, centered around short video clips, used by about 170 million Americans. More than simply providing entertainment, many American content creators rely on the TikTok application for their livelihood and many American businesses rely on it for their advertising.

(ii) The Congress passed the Act in response to concerns from the United States national security community that the TikTok application is under the control of a foreign adversary.

(iii) The divestiture proposed in the Framework Agreement resolves these national security concerns and complies with the Act because it removes the TikTok application and certain other applications from the “control” of a foreign adversary and precludes any “operational relationship” between a formerly affiliated entity controlled by a foreign adversary and the new joint venture.

(A) First, the divestiture removes the TikTok application and certain other applications from the control of a foreign adversary, as defined under the Act, because, among other things, the new joint venture would be based in the United States and less than 20 percent of the joint venture would be owned or controlled by foreign adversary entities or persons.

(B) Second, the divestiture puts the operation of the algorithms and code, as well as content-moderation decisions, under the control of the new joint venture.

(C) Third, the divestiture prohibits the storage of sensitive United States user data in a manner that would place such data under the control of a foreign adversary and requires such data be stored in a cloud environment run by an American company.

(D) Fourth, the divestiture includes intense monitoring of software updates, algorithms, and data flows by the United States' trusted security partners, and it requires all recommendation models, including algorithms, that use United States user data to be retrained and monitored by those trusted security partners.

(iv) These safeguards would protect the American people from the misuse of their data and the influence of a foreign adversary, while also allowing the millions of American viewers, creators, and businesses that rely on the TikTok application to continue using it.

(c) Based on these findings, I further determine that the divestiture of the applications outlined in the Framework Agreement, once its implementation agreements are executed, is a “qualified divestiture” under the Act, including with respect to the TikTok applications, the Lemon8 application, the CapCut applications, any other application or website duly operated by the new joint venture, and their associated or affiliated websites.

Sec. 3. Action. (a) To permit the contemplated divestiture to be completed, the Attorney General shall not take any action on behalf of the United States to enforce the Act for 120 days from the date of this order. During this period, the Department of Justice shall take no action to enforce the Act or impose any penalties against any entity for any noncompliance with the Act, including for distributing, maintaining, or updating (or enabling the distribution, maintenance, or updating of) any foreign adversary controlled application as defined in the Act. In light of this direction, even after the expiration of the above-specified period, the Department of Justice shall not take any action to enforce the Act or impose any penalties against any entity for any conduct that occurred during the above-specified period or any period prior to the issuance of this order, including the period of time from January 19, 2025, to the issuance of this order.

(b) The Attorney General shall take all appropriate action to issue written guidance to implement the provisions of subsection (a) of this section.

(c) The Attorney General shall issue a letter to appropriate providers stating that there has been no violation of the Act and that there is no liability for any conduct that occurs during the 120-day period specified in subsection (a) of this section, as well as for any conduct from the effective date of the Act until the issuance of this order.

(d) Because of the national security interests at stake and because section 2(d) of the Act vests the sole authority for investigations and enforcement of the Act in the Attorney General, attempted enforcement by the States or private parties represents an encroachment on the powers of the Executive. The Attorney General shall exercise all available authority to preserve and defend the Executive's exclusive authority to enforce the Act, including the President's determination of a qualified divestiture.

(e) The Attorney General or the Attorney General's designee shall serve as the United States Government's representative under the Framework Agreement. The Attorney General shall receive any information from the new joint venture, trusted security partners, or any other party from whom information is provided pursuant to the Framework Agreement and this order on behalf of the United States Government. Trusted security partners may also share information with other United States Government officials.

Sec. 4. Amendment and Revocation. The Presidential Memorandum of July 24, 2024 (Delegation of Authority Under the Protecting Americans from Foreign Adversary Controlled Applications Act), is hereby revoked. As described in this order, I have determined that the divestiture outlined in the Framework Agreement constitutes a “qualified divestiture” under the Act and resolves the national security concerns the Act addresses.

I further determine that:

(a) The Order of August 14, 2020 (Regarding the Acquisition of Musical.ly by ByteDance Ltd.) (Divestment Order), expressly reserved my authority to issue further orders with respect to ByteDance Ltd., Musical.ly, Musical.ly in the United States, and TikTok Inc. as shall in my judgment be necessary to protect the national security. The threatened impairment to the national security described in the Divestment Order can be adequately mitigated if, after, or in conjunction with, the execution of the Framework Agreement's implementation agreements, the Committee on Foreign Investment in the United States (CFIUS) enters into an agreement with certain Investor Parties that ensures the alignment of the economic incentives of such Investor Parties with compliance with the terms of the Framework Agreement to protect national security.

(b) The agreement described in subsection (a) of this section also resolves any national security concern under section 721 of the Defense Production Act of 1950 (50 U.S.C. 4565) (section 721) arising from the acquisition of Musical.ly by ByteDance Ltd. as modified by the divestiture outlined in the Framework Agreement.

(c) On the basis of the findings set forth in subsections (a) and (b) of this section, considering the factors described in subsection (f) of section 721, as appropriate, and pursuant to my authority under applicable law, including section 721, I hereby order that:

(i) Section 2(b) of the Divestment Order is amended to read as follows in its entirety: “The prohibition in subsection (a) of this section shall cease to be in effect if the Committee on Foreign Investment in the United States (CFIUS) executes an agreement with certain investors, consistent with the Executive Order of September 25, 2025 (Saving TikTok While Protecting National Security).”.

(ii) Section 2(g) of the Divestment Order is redesignated as section 2(c) and amended to read as follows in its entirety: “Without limitation on the exercise of authority by any agency under other provisions of law, the Attorney General, in consultation with CFIUS, is authorized to implement measures the Attorney General deems necessary and appropriate to verify compliance with the agreement described in subsection (b) of this section.”.

(iii) Sections 2(d) and 2(e) of the Divestment Order are stricken, and sections 2(f), 2(h), and 2(i) of the Divestment Order are redesignated as sections 2(d), 2(e), and 2(f), respectively.

Sec. 5. Reservation. I hereby reserve my authority to issue further orders with respect to this matter as shall in my judgment be necessary to protect the national security.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

September 25, 2025.

[FR Doc. 2025-19139

Filed 9-29-25; 11:15 am]

Billing code 4410-CW-P